DEPARTMENT OF TRANSPORTATION

National Highway Traffic Safety Administration

[Docket No. NHTSA 2000-7705, Notice 1]

Receipt of Applications for Decision of Inconsequential Noncompliance

The following companies, Osram Sylvania Products, Inc., (Osram); Subaru of America, Inc., (Subaru); Koito Manufacturing Co., LTD. (Koito); North American Lighting, Inc. (NAL); Stanley Electric Co., LTD, (Stanley); and General Electric Company (GE) have determined that certain H1 replaceable light sources they manufactured or used in lamp assemblies did not have the “DOT” marking required under Federal Motor Vehicle Safety Standard (FMVSS) No. 108, “Lamps, Reflective Devices, and Associated Equipment.”

This notice of receipt of these applications is published under 49 U.S.C. 30118 and 30120 and does not represent any agency decision or other exercise of judgment concerning the merits of the applications.

Under the requirements of S7.7(a) of FMVSS No. 108, each replaceable light source shall be marked with the symbol “DOT.”

Pursuant to 49 U.S.C. 30118(d) and 30120(h), the above companies have petitioned for a determination that their failure to mark light sources with “DOT” is inconsequential to motor vehicle safety and have filed appropriate reports pursuant to 49 CFR part 573, “Defect and Noncompliance Reports.”

Osram produced 841,283 H1 replaceable light sources without the required “DOT “ marking. In its part 573 report, Osram stated that it was not possible to determine exactly how many light sources were used in headlamp assemblies as opposed to those which were used in fog lamp assemblies.

Between February 1999 and January 2000, NAL used 118,756 of these Osram replaceable light sources in headlamp assemblies. Subaru installed 110,784 of these NAL headlamp assemblies in model year 2000 Legacy vehicles from February 1999 through February 2000.

Stanley used 30,426 of the Osram replaceable light sources in headlamp assemblies intended for Honda Preludes produced between October 22, 1998 and January 27, 2000. Koito used 12,340 of the Osram replaceable light sources in headlamp assemblies it manufactured between June 1999 and January 2000.

A separate group of replaceable light sources with the same noncompliance was manufactured by GE. GE produced 2,490 of these between April 1, 1999 and March 23, 2000. The GE replaceable light sources are included in this notice for simplicity because the issue is identical.

All of the petitioners have indicated that the subject replaceable light sources, with the exception of the absence of the “DOT” marking, fully comply with all the performance and design requirements of FMVSS No. 108 and do not constitute any risk to motor vehicle safety. Osram has submitted confidential test data to show this.

Interested persons are invited to submit written data, views, and arguments on the application described above. Comments should refer to the docket number and be submitted to: U.S. Department of Transportation, Docket Management, Room PL-401, 400 Seventh Street, SW, Washington, DC, 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: March 15, 2001.

(49 U.S.C. 301118, 301120; delegations of authority at 49 CFR 1.50 and 501.8)
Issued on: February 2, 2001.
Stephen R. Kratzke,
Associate Administrator for Safety Performance Standards.

[FR Doc. 01-3558 Filed 2-12-01; 8:45 am]

BILLING CODE 4910-59-P